POSTAL SERVICE

39 CFR Part 111

Clarification of Content Eligibility for Standard Mail Marketing Parcels

AGENCY: Postal Service™.

ACTION: Final rule.

SUMMARY: The Postal Service is revising Mailing Standards of the United States Postal Service, Domestic Mail Manual to (DMM®) to reaffirm basic eligibility standards for Standard Mail Marketing Parcels.

DATES: Effective date: April 16, 2015.

FOR FURTHER INFORMATION CONTACT: Lizbeth Dobbins at 202-268-3789, John F. Rosato at 202-268-8597, or Suzanne Newman at 202-695-0550.

SUPPLEMENTARY INFORMATION:

I. Proposed Rule

The Postal Service published a proposed rule (80 FR 1872-1873) on January 14, 2015, with a comment period ending February 13, 2015, to recertify the definition of Standard Mail Marketing Parcels, remind customers about the basic eligibility and address format standards, and ensure compliance with the rule that this product line not be used for fulfillment.

Background: Previously the Postal Service published standards for the use of the Marketing Parcel product which limited its use to non-fulfillment activity. We affirmed that definition in Postal Bulletin 22327 (December 29, 2011), and reaffirmed it in Postal Bulletin 22406 (January 8, 2015).

Specifically, Standard Mail Marketing Parcels were designed for mailers to send non-requested items or samples to potential customers. Our intent was to build a low cost prospecting vehicle; therefore, the Postal Service built in factors to minimize handling costs. One factor, the alternative addressing format, was required so that the current resident became the recipient of the mailpiece if the named addressee moved from that address. This avoided extra delivery and forwarding costs. Another factor was the specification of size restrictions, including the requirement that pieces needed to be similar in shape and weight if sent in a single mailing.

Building upon the original intent, and to keep this product a viable and cost-effective promotional vehicle, we are adding stronger language to the DMM on content eligibility and address format for Standard Mail Marketing Parcels. This includes clarification that all Standard Mail Marketing Parcels (regular and nonprofit) must bear an alternate addressing format and cannot be used for “fulfillment purposes” (i.e. the sending of items specifically purchased or requested by the customer of a mailer). The one exception to this rule is if the customer of a mailer elects to receive certain samples in connection with the purchase of an item, those samples may be sent separately from the purchased item as a Standard Mail Marketing Parcel. Moreover, the alternate address format must be on the same line as the addressee's name, or on the address line directly above or below the addressee's name as identified in DMM 602.3.4.

II. Comments and Responses

We received feedback from five commenters, who raised three distinct issues.

(1) Statement: One commenter had no issues with the definition and wondered why it was an issue.

Response: It came to the attention of the Postal Service that this product was being improperly used for fulfillment, since it was so inexpensive.

(2) Statement: Four commenters stated they had no issue with the content eligibility requirement but requested that a “grace” period be established to give them time to adjust their business models.

Response: The Postal Service appreciates that some customers may have misused the product, as designed, and appreciates the challenges of adjusting business models. Therefore the Postal Service will review requests for a “grace period” on a case by case basis.

(3) Statement: Three commenters requested additional time to adjust their existing contract agreements.

Response: As stated above, the Postal Service will review requests for a “grace period” on a case by case basis.

The Postal Service appreciates the forthrightness of the commenters in explaining how they do business using this product. In response to these concerns, the Postal Service has determined that it is appropriate to relax the proposed rule in one respect. Since the samples will not be required to be identical in weight, if a customer elects to receive certain samples in connection with the purchase of an item, those samples may be sent separately from the purchased item as a Standard Mail Marketing Parcel as long as the transactions are linked.

List of Subjects in 39 CFR Part 111

Administrative practice and procedure, Postal Service.

The Postal Service adopts the following changes to Mailing Standards of the United States Postal Service, Domestic Mail Manual (DMM), incorporated by reference in the Code of Federal Regulations. See 39 CFR 111.1. Accordingly, for the reasons stated in the preamble, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

200 Commercial Mail

* * * * *

240 Standard Mail

243 Prices and Eligibility

* * * * *

3.0 Basic Eligibility Standards for Standard Mail

* * * * *

3.2 Defining Characteristics

* * * * *

3.2.2 Standard Mail Marketing Parcels

[Revise 3.2.2 to read as follows:]

All Standard Mail Marketing parcels (regular and nonprofit) must bear an alternate addressing format and cannot be used for “fulfillment purposes” (i.e. the sending of items specifically purchased or requested by the customer of a mailer). The alternate address format must be on the same line as the addressee's name or on the address line directly above or below the addressee's name.

* * * * *

We will publish an appropriate amendment to 39 CFR part 111 to reflect these changes.

Stanley F. Mires,
Attorney, Federal Requirements.

[FR Doc. 2015-05885 Filed 3-16-15; 8:45 am]

BILLING CODE 7710-12-P